DEPARTMENT OF ENERGY

Federal Energy Regulatory Commission

[Docket Nos. RP96-312-061 and GT01-34-001]

Tennessee Gas Pipeline Company; Notice of Compliance Filing

November 2, 2001.

Take notice that on October 26, 2001, Tennessee Gas Pipeline Company (Tennessee), tendered for filing as part of its FERC Gas Tariff, Fifth Revised Volume No. 1, Substitute Second Revised Sheet No. 413A, with an effective date of October 1, 2001. Tennessee also filed a copy of the AES Londonderry, L.L.C. (AES) Agency Agreement.

Tennessee states that the AES Agency Agreement and Substitute Second Revised Sheet No. 413A are being filed in compliance with the Commission's October 11, 2001 Letter Order (October 11 Order) in the above-referenced proceeding. The October 11 Order found the AES Agency Agreement to be a non-conforming service agreement because it deviates in a material respect from Tennessee's pro forma Agency Authorization Agreement. Accordingly, Tennessee has revised Substitute Second Revised Sheet No. 413A to list the AES Agency Agreement as a non-conforming agreement. Tennessee requests that the Commission approve the AES Agency Agreement and Substitute Second Revised Sheet No. 413A effective October 1, 2001.

Tennessee states that copies of the filing have been mailed to all affected customers and state regulatory commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-28032 Filed 11-7-01; 8:45 am]

BILLING CODE 6717-01-P